DEPARTMENT OF THE INTERIOR

National Park Service

[NPS-WASO-ANRSS-22287; PPWONRADE2, PMP00EI05.YP0000]

Notice of Availability of the Draft Environmental Impact Statement To Address the Presence of Wolves at Isle Royale National Park, Michigan

AGENCY: National Park Service, Interior.

ACTION: Notice of availability.

SUMMARY: The National Park Service (NPS) announces the availability of the Draft Environmental Impact Statement (EIS) to address the presence of wolves at Isle Royale National Park.

DATES: All comments must be postmarked or submitted not later than March 15, 2017.

FOR FURTHER INFORMATION CONTACT: Please contact Superintendent Phyllis Green, Isle Royale National Park, ISRO Wolves, 800 East Lakeshore Drive, Houghton, Michigan 49931-1896, or by telephone at (906) 482-0984. Information is available online for public review at http://parkplanning.nps.gov/isrowolves.

SUPPLEMENTARY INFORMATION: This process is being conducted pursuant to the National Environmental Policy Act of 1969, and the regulations of the Department of the Interior. The purpose of this Draft EIS is to determine whether and how to bring wolves to Isle Royale to function as the apex predator in the near term within a changing and dynamic island ecosystem. A decision is needed because the potential absence of wolves raises concerns about possible effects to Isle Royale's current ecosystem, including effects to both the moose population and Isle Royale's forest/vegetation communities. Although wolves have not always been part of the Isle Royale ecosystem, they have been present for more than 65 years, and have played a key role in the ecosystem, affecting the moose population and other species during that time. The average wolf population on the island over the past 65 years has been about 22, but there have been as many as 50 wolves documented on the island and as few as two. Over the past five years the population has declined steeply, which has given rise to the need to determine whether the NPS should bring additional wolves to the island. There were three wolves documented on the island in 2015 and only two wolves were confirmed in 2016. At this time, natural recovery of the population is unlikely.

This Draft EIS evaluates the impacts of the no-action alternative (Alternative A) and three action alternatives (Alternatives B, C, and D).

Alternative A would continue existing management practices and assume no new management actions would be implemented beyond those available at the outset of the wolf planning process. Wolves may arrive or depart independently via an ice bridge. Under Alternative A, wolves would not be introduced by management to Isle Royale National Park.

The action alternatives include the capture and relocation of wolves from the Great Lakes Region to Isle Royale National Park. The NPS would target wolves for relocation that are known to feed on moose as one of their prey sources, are in good health with no apparent injuries, and have the appropriate genetic diversity to sustain a viable population on the island. Capture and relocation efforts would take place between late fall and late winter when the island is closed to visitors. All of the action alternatives include monitoring which could include radio or GPS collar tracking from ground and air, scat sample collection, visual observations, and other methodology as funding is available.

Under Alternative B, between 20 and 30 wolves with a wide genetic diversity would be introduced to the island. The social makeup of introduced wolves could include packs, established pairs with pups, or unrelated individuals. Wolves may be supplemented as needed up to the third year after initial introduction. After the third year, should an unforeseen event occur that impacts the wolf population, such as a mass die-off or introduction of disease, and the goals of the alternative are not being met due to this event, wolves may be supplemented for an additional two years. No additional wolves would be brought to the island after five years from date of initial introduction.

Alternative C would involve the initial introduction of a smaller number of wolves than Alternative B. The social makeup of introduced wolves could include an established pair with pups, or a pack, as well as unrelated individuals. The NPS would bring wolves to the island as often as needed in order to maintain a population of wolves on the island for at least the next 20 years. Under this alternative, additional wolves may be brought based on one or more resource indicators that could include genetic health of the wolves, ecological health, and prey species population trends.

Under Alternative D, the NPS would not take immediate action and would continue current management, allowing natural processes to continue. This alternative is meant to continue the study of island ecosystem changes without an apex predator and only take action should the weight of evidence suggest an apex predator is necessary to ecosystem function. Resource indicators, such as population size and growth rate of moose would be used to determine if and when wolf introduction actions should be taken. If the weight of evidence indicates wolf introduction actions should be taken, the NPS would follow procedures outlined within Alternative C.

Public Participation: After the Environmental Protection Agency's Notice of Availability is published, the NPS will schedule public meetings to be held during the comment period in the Great Lakes Region near the park. Dates, times, and locations of these meetings will be announced in press releases and on the NPS Planning, Environment, and Public Comment Web site for the Draft EIS at http://parkplanning.nps.gov/isrowolves.

How to Comment: You are encouraged to comment on the Draft EIS online at http://parkplanning.nps.gov/isrowolves. You may also mail or hand-deliver your written comments to Superintendent Phyllis Green, Isle Royale National Park, ISRO Wolves, 800 East Lakeshore Drive, Houghton, Michigan 49931-1896. Written comments will also be accepted during scheduled public meetings discussed above. Comments will not be accepted by fax, email, or by any method other than those specified above. Bulk comments in any format (hard copy or electronic) submitted on behalf of others will not be accepted. Before including your address, phone number, email address, or other personal identifying information in your comment, you should be aware that your entire comment—including your personal identifying information—may be made publicly available at any time. While you can ask us in your comment to withhold your personal identifying information from public review, we cannot guarantee that we will be able to do so.

Dated: October 25, 2016.
Cameron H. Sholly,
Regional Director, Midwest Region.

[FR Doc. 2016-30247 Filed 12-15-16; 8:45 am]

BILLING CODE 4312-52-P